DEPARTMENT OF TRANSPORTATION

Coast Guard

33 CFR Part 117

[CGD01-01-040]

Drawbridge Operation Regulations: Hutchinson River, (Eastchester Creek), NY

AGENCY: Coast Guard, DOT.

ACTION: Notice of temporary deviation from regulations.

SUMMARY: The Commander, First Coast Guard District, has issued a temporary deviation from the drawbridge operation regulations governing the operation of the South Fulton Avenue Bridge, at mile 2.9, across the Eastchester Creek in Mount Vernon, New York. This deviation allows the bridge owner to need not open the bridge for vessel traffic for five successive weeks, 8 a.m., on Monday through 4:30 p.m., on Thursday, beginning Monday, April 16, 2001 through Thursday, May 17, 2001. This action is necessary to facilitate necessary maintenance at the bridge.

DATES: This deviation is effective from April 16, 2001 through May 17, 2001.

FOR FURTHER INFORMATION CONTACT: Mr. Joseph Schmied, Project Officer, First Coast Guard District, at (212) 668-7195.

SUPPLEMENTARY INFORMATION: The South Fulton Avenue Bridge, at mile 2.9, across the Eastchester Creek has a vertical clearance of 6 feet at mean high water and 13 feet at mean low water in the closed position. The existing drawbridge operation regulations are listed at 33 CFR 117.793(c).

The bridge owner, Westchester County Department of Public Works, requested a temporary deviation from the operating regulations to facilitate scheduled maintenance at the bridge.

Vessels that can pass under the bridge without an opening may do so at all times during the closed period.

In accordance with 33 CFR 117.35(c), this work will be performed with all due speed in order to return the bridge to normal operation as soon as possible. This deviation from the operating regulations is authorized under 33 CFR 117.35.

Dated: March 26, 2001.
G.N. Naccara,
Rear Admiral, U.S. Coast Guard, Commander, First Coast Guard District.

[FR Doc. 01-8184 Filed 4-3-01; 8:45 am]

BILLING CODE 4910-15-U